DEPARTMENT OF TRANSPORTATION

Federal Aviation Administration

14 CFR Part 13

[Docket No.: FAA-2018-1051; Amdt. No.: 13-40A]

RIN 2120-AL00

Update to Investigative and Enforcement Procedures and Part 11; Correction

AGENCY: Federal Aviation Administration (FAA), U.S. Department of Transportation (DOT).

ACTION: Final rule; correction.

SUMMARY: On October 11, 2022, the FAA published a final rule titled “Update to Investigative and Enforcement Procedures and Part 11; Technical Amendments.” That document made technical amendments to the Update to Investigative and Enforcement Procedures final rule, which was published on October 1, 2021. The technical amendments rule inadvertently identified the Rulemaking Identification Number (RIN).

DATES: Effective November 4, 2022.

FOR FURTHER INFORMATION CONTACT: Cole R. Milliard, Office of the Chief Counsel, AGC-300, Federal Aviation Administration, 800 Independence Avenue SW, Washington, DC 20591; telephone (202) 267-3452; email Cole.Milliard@faa.gov, or Jessica E. Kabaz-Gomez, Office of the Chief Counsel, AGC-300, Federal Aviation Administration, (202) 267-7395.

SUPPLEMENTARY INFORMATION:

Correction

In the Federal Register of October 11, 2022, in FR Doc. 2022-21354, on page 61232, in the first column, correct the RIN to read: RIN 2120-AL00.

Issued in Washington, DC, under the authority provided by 49 U.S.C. 106(f), 40101 note and 44807, on October 21, 2022.
Brandon Roberts,
Executive Director, Office of Rulemaking.

[FR Doc. 2022-23990 Filed 11-3-22; 8:45 am]

BILLING CODE 4910-13-P